FEDERAL MARITIME COMMISSION

Ocean Transportation Intermediary License; Reissuance

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/address | Date reissued
018434N | K & S Freight Systems, Inc., 2801 NW. 74th Avenue, Suite 219, Miami, FL 33122 | April 5, 2011.
020335NF | Intercontinental Cargo Enterprises, Inc., 8501 NW. 17th Street, Suite 120, Miami, FL 33126 | March 16, 2011.

Sandra L. Kusumoto,
Director, Bureau of Certification and Licensing.

[FR Doc. 2011-12224 Filed 5-17-11; 8:45 am]

BILLING CODE 6730-01-P